DEPARTMENT OF COMMERCE

National Oceanic and Atmospheric Administration

RIN 0648-XA59

Marine Mammals; File No. 642-1536-03

AGENCY: National Marine Fisheries Service (NMFS), National Oceanic and Atmospheric Administration (NOAA), Commerce.

ACTION: Notice; receipt of application for amendment.

SUMMARY: Notice is hereby given that Joseph R. Mobley, University of Hawaii at Manoa,2528 McCarthy Mall, Webster 404, Honolulu, HI 96822, has requested an amendment to scientific research Permit No. 642-1536-02.

DATES: Written, telefaxed, or e-mail comments must be received on or before July 5, 2007.

ADDRESSES: The amendment request and related documents are available for review upon written request or by appointment in the following office(s):

Permits, Conservation and Education Division, Office of Protected Resources, NMFS, 1315 East-West Highway, Room 13705, Silver Spring, MD 20910; phone (301)713-2289; fax (301)427-2521; and

Pacific Islands Region, NMFS, 1601 Kapiolani Blvd., Rm 1110, Honolulu, HI 96814-4700; phone (808)973-2935; fax (808)973-2941.

Written comments or requests for a public hearing on this request should be submitted to the Chief, Permits, Conservation and Education Division, F/PR1, Office of Protected Resources, NMFS, 1315 East-West Highway, Room 13705, Silver Spring, MD 20910. Those individuals requesting a hearing should set forth the specific reasons why a hearing on this particular amendment request would be appropriate.

Comments may also be submitted by facsimile at (301)427-2521, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 642-1536-03.

FOR FURTHER INFORMATION CONTACT: Kate Swails or Amy Hapeman, (301)713-2289.

SUPPLEMENTARY INFORMATION: The subject amendment to Permit No. 642-1536 issued on March 3, 2000 (65 FR 13949) is requested under the authority of the Marine Mammal Protection Act of 1972, as amended (16 U.S.C. 1361 et seq.), the regulations governing the taking and importing of marine mammals (50 CFR part 216), the Endangered Species Act of 1973, as amended (16 U.S.C. 1531 et seq.), and the regulations governing the taking, importing, and exporting of endangered and threatened species (50 CFR 222-226).

Permit No. 642-1536 authorizes the permit holder to conduct aerial and vessel-based research, including surface and underwater photography/videography for identification and sex verification, on North Pacific humpback whales (Megaptera novaeangliae) and several other species of cetaceans in Hawaii waters. The permit holder is also authorized to biopsy sample and suction cup/implantable bioacoustic tag various cetacean species resident to Hawaii. The permit holder now requests authorization to use sound playback on up to 250 humpback whales annually in the waters off W. Maui and possibly other inshore areas among the main Hawaiian Islands. The proposed research would expand upon earlier work that demonstrated the feasibility of using responses of free-ranging humpback whales to biologically meaningful sounds as a means of estimating auditory thresholds for humpback whales. The amendment would be valid for the remainder of the permit.

Concurrent with the publication of this notice in the Federal Register, NMFS is forwarding copies of this application to the Marine Mammal Commission and its Committee of Scientific Advisors.

Dated: May 29, 2007.
P. Michael Payne,
Chief, Permits, Conservation and Education Division, Office of Protected Resources, National Marine Fisheries Service.

[FR Doc. E7-10721 Filed 6-1-07; 8:45 am]

BILLING CODE 3510-22-S